DEPARTMENT OF TRANSPORTATION

Pipeline and Hazardous Materials Safety Administration

Notice of Application for Special Permits

AGENCY: Pipeline and Hazardous Materials Safety Administration (PHMSA), DOT.

action: list of Applications for Special Permits

SUMMARY: In accordance with the procedures governing the application for, and the processing of, special permits from the Department of Transportation's Hazardous Material Regulations (49 CFR Part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before December 4, 2013.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington DC or at http://regulations.gov.

This notice of receipt of applications for special permit is published in accordance with Part 107 of the Federal hazardous materials transportation law (49 U.S.C. 5117(b); 49 CFR 1.53(b)).

Issued in Washington, DC, on October 29, 2013.
Don Burger,
Chief, General Approvals and Permits.

New Special Permits
Application No. | Docket No. | Applicant | Regulation(s) affected | Nature of special permits thereof
15973-N |  | Codman & Shurtleff, Inc. Raynham, MA | 49 CFR Parts 171-180 | To authorize the transportation in commerce of small amounts of butane contained within a Medstream Pump as unregulated. (modes 4, 5)
15980-N |  | Windward Aviation, Inc. Puunene, HI | 49 CFR 175.9(a) | To authorize the transportation in commerce of aviation turbine engine fuel by external load. (mode 4)
15985-N |  | Space Exploration Technologies Corp. Hawthorne, CA | 49 CFR Part 172 and 173 | To authorize the transportation in commerce of certain hazardous material as part of the Falcon space capsule without requiring shipping papers, marking and labeling. (mode 1)
15986-N |  | Helicopter Consultants of Maui, Inc. dba Blue Hawaiian Helicopters Kahului, HI | 49 CFR 172.101 Column (9B), 172.204(c)(3), 173.27(b)(2), 175.30(a)(1), 172.200, 172.300 and 172.400 | To authorize the transportation in commerce of certain hazardous materials by external load in remote areas of the US without being subject to hazard communication requirements and quantity limitations where no other means of transportation is available. (modes 2, 4)
15991-N |  | Dockweiler Neustadt-Glewe, Germany | 49 CFR 178.50(d)(1) and (d) (2) | To authorize the manufacture, marking, sale and use of non-DOT specification cylinders similar to DOT 4BW for the transportation in commerce of certain hazardous materials. (modes 1, 2, 3, 4, 5)
15992-N |  | Ledwell & Son Enterprises, Inc. Texarkana, TX | 49 CFR 178.345-3 | To authorize the transportation in commerce of certain cargo tank motor vehicles that have had an appurtenance welded to the cargo tank wall without meeting the requirements of 49 CFR 178.345-3. (mode 1)
15994-N |  | Pinnacle Helicopter Lubbock, TX | 49 CFR 175.9 | To authorize the transportation in commerce of hazardous materials in external load. (mode 4)
15996-N |  | University of York York | 49 CFR 171.23, 173.301(a) (1), and 173.301(j) | To authorize the transportation in commerce of 53 non-DOT specification EU certified cylinders from the United Kingdom into the U.S. Territory of Guam for the atmospheric research field campaign “CONTRAST”. (mode 3)
15997-N |  | Hi-Shear Technology Corporation Torrance, CA | 49 CFR 173.56(b), 173.61 and 173.63 | To authorize the transportation in commerce Sealed Scrap Parts (small parts containing milligram explosive loads) as as UN0352, Articles, explosive, n.o.s. 1.4D without having them re-examined when transported for disposal. (mode 1)
15998-N |  | U.S. Department of Defense (DOD) Scott AFB, IL | 49 CFR 171.22(e) and 173.62 | To authorize the transportation in commerce of certain Class 1 material which is forbidden for transportation by cargo air or exceeds the quantity limitations in 172.101 Column (9B) in alternative packaging. (mode 4)
15999-N |  | National Aeronautics & Space Administration (NASA) Washington, DC | 49 CFR Part 172 and 173 | To authorize the transportation in commerce of certain hazardous material as part of the Orion space capsule without requiring shipping papers, marking and labeling. (modes 1, 3)
16001-N |  | VELTEK Malvern, PA | 49 CFR Parts 100-180 | To authorize exceptions to specification packaging, marking and labeling requirements for certain isopropyl alcohol formulations. (modes 1, 2, 3, 4, 5)
16002-N |  | Sky Aviation, Inc. Worland, WY | 49 CFR 175.9(a) | To authorize the transportation in commerce of certain hazardous materials by external load. (mode 4)

[FR Doc. 2013-26121 Filed 11-1-13; 8:45 am]

BILLING CODE 4910-60-P